NATIONAL AERONAUTICS AND SPACE ADMINISTRATION

[Notice: (10-167)]

NASA Advisory Council; Exploration Committee; Meeting

AGENCY: National Aeronautics and Space Administration.

ACTION: Notice of meeting.

SUMMARY: In accordance with the Federal Advisory Committee Act, Public Law 92-463, as amended, the National Aeronautics and Space Administration announces a meeting of the Exploration Committee of the NASA Advisory Council.

DATES: Tuesday, January 11, 2011, 10:30 a.m.-5:45 p.m., Local Time

ADDRESSES: NASA Headquarters, Glennan Conference Room-1Q39; 300 E Street, SW., Washington, DC 20546

FOR FURTHER INFORMATION CONTACT: Dr. Bette Siegel, Exploration Systems Mission Directorate, National Aeronautics and Space Administration Headquarters, 300 E Street, SW., Washington, DC 20546, 202/358-2245; bette.siegel@nasa.gov.

SUPPLEMENTARY INFORMATION: The agenda topics for the meeting will include:

• Status of the Exploration Program.

• Future Planning for Human Exploration.

• Status of the Commercial Crew Initiative.

• Final Report of the Ad-Hoc Task Force on Planetary Defense.

The meeting will be open to the public up to the seating capacity of the room. It is imperative that the meeting be held on these dates to accommodate the scheduling priorities of the key participants. Visitors will need to show a valid government-issued picture identification such as driver's license or passport at the Visitor Center in the West Lobby, and must state they are attending the NASA Advisory Council Exploration Committee meeting in the Glennan Conference Room-1Q39. Further, no later than January 3, 2011, all non-U.S. citizens must submit the following information to Dr. Bette Siegel, Room 7T15, NASA Headquarters, 300 E Street, SW., Washington, DC 20546; Fax (202) 358-3091: Name, current address, citizenship, company affiliation (if applicable) to include address, telephone number, and their title, place of birth, date of birth, U.S. visa information to include type, number, and expiration date, U.S. Social Security Number (if applicable), Permanent Resident Alien card number and expiration date (if applicable), place and date of entry into the U.S., and passport information to include country of issue, number, and expiration date.

For questions, please call Bette Siegel at (202) 358-2245.

Dated: December 14, 2010.
P. Diane Rausch,
Advisory Committee Management Officer, National Aeronautics and Space Administration.

[FR Doc. 2010-31977 Filed 12-20-10; 8:45 am]

BILLING CODE 7510-13-P